DEPARTMENT OF COMMERCE

National Institute of Standards and Technology

National Conference on Weights and Measures Interim Meeting

AGENCY: National Institute of Standards and Technology, Commerce.

ACTION: Notice.

SUMMARY: The Interim Meeting of the National Conference on Weights and Measures (NCWM) will be held in St. Pete Beach, Florida, from Sunday, January 21, 2018, through Wednesday, January 24, 2018. This notice contains information about significant items on the NCWM Committee agendas but does not include all agenda items. As a result, the items are not consecutively numbered.

DATES: The meeting will be held from Sunday, January 21, 2018, through Wednesday, January 24, 2018, on Sunday through Tuesday, from 8:00 a.m. to 5:00 p.m. Eastern Time, and on Wednesday, from 9:00 a.m. to 12:00 p.m. Eastern Time. The meeting schedule is available at www.ncwm.net.

ADDRESSES: This meeting will be held at the Sirata Beach Resort and Conference Center, 5300 Gulf Boulevard, St. Pete Beach, Florida 33706.

FOR FURTHER INFORMATION CONTACT: Dr. Douglas Olson, NIST, Office of Weights and Measures, 100 Bureau Drive, Stop 2600, Gaithersburg, MD 20899-2600. You may also contact Dr. Olson at (301) 975-2956 or by email at douglas.olson@nist.gov. The meeting is open to the public, but a paid registration is required. Please see the NCWM website (www.ncwm.net) to view the meeting agendas, registration forms, and hotel reservation information.

SUPPLEMENTARY INFORMATION: Publication of this notice on the NCWM's behalf is undertaken as a public service; NIST does not endorse, approve, or recommend any of the proposals or other information contained in this notice or in the publications produced by the NCWM.

The NCWM is an organization of weights and measures officials of the states, counties, and cities of the United States, and representatives from the private sector and federal agencies. These meetings bring together government officials and representatives of business, industry, trade associations, and consumer organizations on subjects related to the field of weights and measures technology, administration, and enforcement. NIST participates to encourage cooperation between federal agencies and the states in the development of legal metrology requirements. NIST also promotes uniformity in state laws, regulations, and testing procedures used in the regulatory control of commercial weighing and measuring devices, packaged goods, and for other trade and commerce issues.

The NCWM has established multiple committees, task groups, and other working bodies to address legal metrology issues of interest to regulatory officials, industry, consumers, and others. The following are brief descriptions of some of the significant agenda items that will be considered by some of the NCWM Committees at the NCWM Interim Meeting. Comments will be taken on these and other issues during several public comment sessions. At this stage, the items are proposals. This meeting also includes work sessions in which the Committees may also accept comments, and where recommendations will be developed for consideration and possible adoption at the NCWM 2018 Annual Meeting. The Committees may withdraw or carryover items that need additional development.

These notices are intended to make interested parties aware of these development projects and to make them aware that reports on the status of the project will be given at the Interim Meeting. The notices are also presented to invite the participation of manufacturers, experts, consumers, users, and others who may be interested in these efforts.

The Specifications and Tolerances Committee (S&T Committee) will consider proposed amendments to NIST Handbook 44, “Specifications, Tolerances, and other Technical Requirements for Weighing and Measuring Devices.” Those items address weighing and measuring devices used in commercial applications, that is, devices that are used to buy from or sell to the public or used for determining the quantity of products or services sold among businesses. Issues on the agenda of the NCWM Laws and Regulations Committee (L&R Committee) relate to proposals to amend NIST Handbook 130, “Uniform Laws and Regulations in the area of Legal Metrology and Engine Fuel Quality” and NIST Handbook 133, “Checking the Net Contents of Packaged Goods.”

NCWM S&T Committee

The following items are proposals to amend NIST Handbook 44:

GEN—General Code

Item GEN-3 G-A.1. Commercial and Law-Enforcement Equipment and G-S.2. Facilitation of Fraud

These paragraphs currently specify that all weighing and measuring equipment and all mechanisms, software, and devices that are attached or used in conjunction therewith must be designed, constructed, assembled, and installed for use so that they do not facilitate the perpetration of fraud.

The S&T Committee will consider a proposal that would expand the application of paragraph G-A.1. Commercial and Law-Enforcement Equipment to include accessory equipment that can be used to defraud or collect unauthorized personal or financial information from a user (e.g., credit/debit card “skimmers). The proposal would also expand paragraph G-S.2. Facilitation of Fraud by requiring credit/debit card readers and other devices capable of customer initiated electronic financial transactions that are used in conjunction with weighing and measuring equipment to: (1) Be designed and constructed to restrict access and tampering by unauthorized persons; and (2) include an event counter that records the date and time of access.

SCL—Scales

Item SCL-6 S.1.2.2.3. Deactivation of a “d” Resolution

In 2017, the NCWM adopted a proposal requiring the value of the scale division (d) and verification scale interval (e) to be equal on Class I and Class II scales installed into commercial service as of January 1, 2020, when used in a direct sale application (i.e., both parties of a weighing transaction are present when the quantity is determined). The S&T Committee will now consider a new proposal that, if adopted, would prohibit the deactivation of a “d” resolution on a Class I or II scale equipped with a value of “d” that differs from “e” if by such action it causes the scale to round improperly.

Item SCL-7 S.1.8.5. Recorded Representations, Point of Sale Systems

The S&T Committee will consider a proposal requiring additional sales information to be recorded by cash registers interfaced with a weighing element for items that are weighed at a checkout stand. These systems are currently required to record the net weight, unit price, total price, and the product class, or in a system equipped with price look-up capability, the product name or code number. The change proposed would add “tare weight” to the list of sales information currently required. This change has been proposed as a nonretroactive requirement with an enforcement date of January 1, 2020, which means if the proposal is adopted, the additional information (i.e., the tare weight) would be required to appear on the sales receipt for items weighed at a checkout stand (Point of Sale Systems) on equipment installed into commercial service as of January 1, 2020. This proposed change would not affect equipment already in service.

Item SCL-8 Sections Throughout the Code To Include Provisions for Commercial Weigh-In-Motion Vehicle Scale Systems

The S&T Committee will consider a proposal drafted by the NCWM's Weigh-In-Motion (WIM) Task Group (TG) to amend various sections of the NIST Handbook 44, Scales Code to address WIM vehicle scale systems used for commercial applications. The TG is made up of representatives of WIM equipment manufacturers, the U.S. Department of Transportation Federal Highway Administration, NIST Office of Weights and Measures, truck weight enforcement agencies, state weights and measures agencies, and others.

The WIM TG was first formed in February 2016 to consider a proposal to expand the NIST Handbook 44, Weigh-In-Motion Systems Used for Vehicle Enforcement Screening—Tentative Code to also apply to legal-for-trade (commercial) and law enforcement applications. Members of the TG agreed during their first face-to-face meeting at the 2016 NCWM Annual Meeting to eliminate from the proposal any mention of a law enforcement application and focus solely on WIM vehicle scale systems intended for use in commercial applications. Members of the TG later agreed that commercial application WIM vehicle scale systems should be addressed by the Scales Code of NIST Handbook 44, rather than the Weigh-In-Motion Systems Used for Vehicle Enforcement Screening—Tentative Code.

The focus of the TG since July 2016 has been to concentrate on the development of test procedures that can be used to verify the accuracy of a WIM vehicle scale system given the different axle and tandem axle configurations of vehicles that will typically be weighed by a system and a proposed maintenance and acceptance tolerance of 0.2 percent on gross (total) vehicle weight. Members of the TG, to date, have been unsuccessful in agreeing on test procedures, and, as a result, the TG recently developed a “White Paper” during the summer of 2017, which it distributed to the different regional weights and measures associations requesting feedback from their fall 2017 conferences on some different draft test procedures being considered and some other concerns.

Liquefied Petroleum Gas and Anhydrous Ammonia Liquid-Measuring Devices

Item LPG-3 S.2.5. Zero-Setback Interlock, Stationary and Vehicle Mounted Meters, Electroinic

The S&T Committee will consider a proposal to add a new nonretroactive paragraph (effective date yet to be determined) that requires both stationary and vehicle mounted electronic LPG and anhydrous ammonia liquid-measuring devices be designed with an automatic interlock system that must engage following completion of a delivery. The proposal specifies that the interlock system must prevent a subsequent delivery from occurring until such time the indicating elements and recording elements, if so equipped, have been reset to zero. The proposal also requires the automatic interlock system to activate within three minutes of product flow cessation and that this “timeout” feature be sealable at the indicator.

Block 4, Items (B4) Terminology for Testing Standards and Block 5, Items (B5) Define “Field Reference Standard”

Block 4 Items (B4) and Block 5 Items (B5) include all of the following items:

B4: Item SCL-4 N.2. Verification (Testing) Standards [Scales Code]

B4: Item ABW-1 N.2. Verification (Testing) Standards [Automatic Bulk Weighing Systems]

B4: Item AWS-1 N.1.3. Verification (Testing) Standards, N.3.1. Official Tests; UR.4. Testing Standards [Automatic Weighing Systems]

B4: Item CLM-1 N.3.2. Transfer Standard Test; T.3. On Tests Using Transfer Standards [Cryogenic Liquid-Measuring Devices]

B4: Item CDL-1 N.3.2. Transfer Standard Test; T.3. On Tests Using Transfer Standards [Carbon Dioxide Liquid-Measuring Devices]

B4: Item HGM-1 N.4.1. Master Meter (Transfer) Standard Test; T.4. Tolerance Application on Test Using Transfer Standard Test Method [Hyrdogen Gas-Metering Devices]

B4: Item GGM-1 Section 5.56.(a) [Grain-Moisture Meters “a”] N.1.1. Air Oven Reference Method Transfer Standards, N.1.3. Meter to Like-Type Meer Method Transfer Standards, and Section 5.56.(b) [Grain-Moisture Meters “b”] N.1.1. Transfer Standards, T. Tolerances

B4: Item LVS-1 N.2. Testing Standards [Electronic Livestock, Meat, and Poultry Evaluation Systems and/or Devices]

B4: Item OTH-2 Appendix A—Fundamental Considerations, 3.2. Tolerances for Standards; 3.3. Accuracy of Standards

B4: Item OTH-3 Appendix D—Definitions: fifth-wheel, official grain samples, transfer standard; standard, field

B5: Item CLM-2 N.3.2. Transfer Standard Test; T.3. On Tests Using Transfer Standards [Cryogentic Liquid-Measuring Devices]

B5: Item CDL-2 N.3.2. Transfer Standard Test; T.3. On Tests Using Transfer Standards [Carbon Dioxide Liquid-Measuirng Devices]

B5: Item HGM-2 N.4.1. Master Meter (Transfer) Standard Test; T.4. Tolerance Application on Test Using Transfer Standard Test Method [Hydrogen Gas Metering-Systems]

B5: Item OTH-4 Appendix D—Definitions: field reference, standard meter; transfer standard

Block 4 and Block 5 items are considered related agenda items, and it is likely the S&T Committee will take comments at the 2018 NCWM Interim Meeting on these two groups of items at the same time. These two groups of items are intended to: (1) Make clear the qualifying conditions in which a standard intended for use in testing (i.e., evaluating the performance of) a commercial weighing or measuring device or system can be used to conduct an official test; and (2) harmonize the terminology used to identify a suitable test standard in each of the Handbook 44 codes.

NCWM L&R Committee

The following items are proposals to amend NIST Handbook 130 or NIST Handbook 133:

NIST Handbook 130—Section on Uniform Regulation for the Method of Sale of Commodities

Item MOS-10 Section 2.XX. Pet Treats or Chews

The L&R Committee is recommending adoption of a uniform method of sale for Pet Treats or Chews. If adopted, the proposal will require sellers to follow labeling guidance under the Food and Drug Administration and 21 CFR 501, which defines these types of products that shall be sold by weight. This will also allow consumers to make a value comparison for similar like items.

NIST Handbook 133—“Checking the Net Contents of Packaged Goods”

Item NET-4 Section 4.XX. Plywood and Wood-Based Structural Panels

Currently, there is no test procedure in NIST Handbook 133 for Plywood and Wood-Based Structural Panels. This item will provide a test procedure for these products that follows good measuring practices for products sold by linear measure. The L&R Committee is seeking further comment and is recommending this test procedure be considered for addition to the handbook.

Authority: 15 U.S.C. 272(b).

Kevin Kimball,
NIST Chief of Staff.

[FR Doc. 2017-27890 Filed 12-26-17; 8:45 am]

BILLING CODE 3510-13-P